SURFACE TRANSPORTATION BOARD

[Docket No. FD 35754 (Sub-No. 1)]

RSL Railroad, LLC—Amended Lease and Operation Exemption Containing Interchange Commitment—Line of Norfolk Southern Railway Company

RSL Railroad, LLC (RSL), a Class III rail carrier, has filed a verified notice of exemption pursuant to 49 CFR 1150.41 to continue to lease and operate 1.4 miles of rail line, known as the South Massillon IT, between milepost MT 0.0 and milepost MT 1.4 at Massillon, Ohio (the Line).

According to the verified notice, RSL was authorized to operate the Line in 2013 pursuant to a lease agreement with Norfolk Southern Railway Company (NSR) (Lease Agreement), which provided for a fixed lease rental payment. See RSL R.R.—Lease & Operation Exemption—Line of Norfolk S. Ry., FD 35754 (STB served Aug. 23, 2013). RSL and NSR amended the lease in 2015 (First Amendment), which modified the lease rental provisions of the Lease Agreement to permit RSL to receive a lease credit against its fixed rental payment for each revenue carload it interchanges with NSR on the Line. See RSL R.R.—Lease Exemption Containing Interchange Commitment—Norfolk S. Ry., FD 35990 (STB served Jan. 28, 2016). At NSR's request, the parties have agreed to a second amendment (Second Amendment) that extends the lease and increases the lease rental provisions of the Lease Agreement.¹ According to the verified notice, RSL will continue to provide all common carrier rail operations over the Line. All other terms and conditions of the Lease Agreement remain in full force and effect.

¹ RSL has filed the Second Amendment under seal pursuant to 49 CFR 1150.43(h)(1)(ii). By motion filed on September 20, 2023, RSL requests that the Board enter a protective order to protect the commercially sensitive information contained in the Second Amendment. However, under 1150.43(h)(1), this information will be kept confidential without the need for a protective order.

RSL certifies that its projected annual revenues as a result of the transaction will not result in the creation of a Class II or Class I rail carrier and will not exceed $5 million.

The transaction may be consummated on or after October 20, 2023, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than October 13, 2023 (at least seven days before the exemption becomes effective).

All pleadings, referring to Docket No. FD 35754 (Sub-No. 1), must be filed with the Surface Transportation Board either via e-filing on the Board's website or in writing addressed to 395 E Street SW, Washington, DC 20423-0001. In addition, a copy of each pleading must be served on RSL's representative, Terry A. Moore, Esq., Krugliak, Wilkins, Griffiths & Dougherty Co., L.P.A., 4775 Munson Street NW, Canton, Ohio 44718.

According to RSL, this action is categorically excluded from environmental review under 49 CFR 1105.6(c) and from historic preservation reporting requirements under 49 CFR 1105.8(b).

Board decisions and notices are available at www.stb.gov.
Decided: October 2, 2023.
By the Board, Scott M. Zimmerman, Acting Director, Office of Proceedings.
Eden Besera,
Clearance Clerk.

[FR Doc. 2023-22284 Filed 10-5-23; 8:45 am]

BILLING CODE 4915-01-P